DEPARTMENT OF LABOR

Office of Disability Employment Policy

Advisory Committee on Increasing Competitive Integrated Employment for Individuals With Disabilities; Notice of Meeting

The Advisory Committee on Increasing Competitive Integrated Employment for Individuals With Disabilities (the Committee) was mandated by section 609 of the Rehabilitation Act of 1973, as amended by section 461 of the Workforce Innovation and Opportunity Act (WIOA). The Secretary of Labor established the Committee on September 15, 2014 in accordance with the provisions of the Federal Advisory Committee Act (FACA), as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates.

The Committee is required to meet no less than eight times. It is also required to submit an interim report to the Secretary of Labor; the Senate Committee on Health, Education, Labor and Pensions; and the House Committee on Education and the Workforce within one year of the Committee's establishment by September 15, 2015. A final report must be submitted to the same entities no later than two years from the Committee establishment date. The Committee terminates one day after the submission of the final report.

The next meeting of the Committee will take place on Monday, July 13, 2015 and Tuesday, July 14, 2015. The meeting will be open to the public on Monday, July 13 from 8:30 a.m. to 5:00 p.m., Eastern Daylight Time (EDT). On Tuesday, July 14th, the meeting will be open to the public from 8:00 a.m. to 4:00 p.m., EDT. The meeting will take place at the U.S. Access Board, 1331 F Street NW., Suite 800, Washington, DC 20004-1111.

On July 13th and 14th, the four subcommittees of the Committee will report out on their work on draft chapters for the interim report. The four subcommittees are: The Transition to Careers Subcommittee, the Complexity and Needs in Delivering Competitive Integrated Employment Subcommittee, the Marketplace Dynamics Subcommittee, and the Building State and Local Capacity Subcommittee. Each subcommittee will have 30 minutes to present its work, and then the whole Committee will discuss the proposed findings, conclusions, and recommendations from the subcommittee. In addition, the Committee will hear expert testimony on a number of topics, including, but not limited to: An overview of State policy reform through the Employment First initiative. The Committee will also hear from expert panels that will address issues with provider transformation to Competitive Integrated Employment. The Committee will also acknowledge the 25th anniversary of the Americans with Disabilities Act (ADA) and its connection to competitive integrated employment. Finally, the Committee will hear from a panel of providers about their experiences with sheltered workshops under section 14(c) of the FLSA.

Members of the public who wish to address the Committee on the topics being discussed at the meeting during the public comment period of the meeting on Monday, July 13 between 2:15 p.m. and 3:00 p.m., EDT, should send their name, their organization's name (if applicable) and any additional materials (such as a copy of the proposed testimony) to IntegratedCompetitiveEmployment@dol.gov or call David Berthiaume at DOL's Office of Disability Employment Policy at (202) 693-7887 by Thursday, July 2nd. Please ensure that any attachments are in an accessible format or the submission will be returned. Also, note that public comments will be limited to five minutes in length. Due to time constraints, we will be able to accommodate up to eight requests to address the Committee. If more than eight requests are received, we will select a representative sample to speak and the remainder will be permitted to file written statements. Individuals with disabilities who need accommodations should also contact Mr. Berthiaume at the email address or phone number above.

Organizations or members of the public wishing to submit a written statement may do so by submitting five copies on or before July 2, 2015 to David Berthiaume, Advisory Committee on Increasing Competitive Integrated Employment for Individuals with Disabilities, U.S. Department of Labor, Suite S-1303, 200 Constitution Avenue NW., Washington, DC 20210. Statements also may be submitted as email attachments in rich text, Word, or pdf format transmitted to IntegratedCompetitiveEmployment@dol.gov. Please ensure that any written submission is in an accessible format or the submission will be returned. It is requested that statements not be included in the body of an email. Statements deemed relevant by the Committee and received on or before July 2, 2015 will be included in the record of the meeting. Do not include any personally identifiable information (such as name, address, or other contact information) or confidential business information that you do not want publicly disclosed.

Signed at Washington, DC, this 15th day of June, 2015.
Jennifer Sheehy,
Acting Assistant Secretary, Office of Disability Employment Policy.

[FR Doc. 2015-15200 Filed 6-19-15; 8:45 am]

BILLING CODE 4510-23-P